FEDERAL COMMUNICATIONS COMMISSION

47 CFR Part 90

[PS Docket 12-94, PS Docket 06-229, WT Docket No. 06-150, DA 15-1253]

Public Safety and Homeland Security Bureau Seeks Comment on FirstNet's Incumbent Relocation Proposal

AGENCY: Federal Communications Commission.

ACTION: Proposed rule.

SUMMARY: This document seeks comment on the ex parte proposal made by the First Responder Network Authority (FirstNet) to facilitate the relocation of incumbent public safety communications systems operating in the 758-769/788-799 MHz spectrum band (Band 14) in advance of the deployment and operation of FirstNet's nationwide broadband public safety network (NPSBN).

DATES: Comments are due on or before December 9, 2015.

ADDRESSES: See the SUPPLEMENTARY INFORMATION section of this document.

FOR FURTHER INFORMATION CONTACT: Brian Marenco, Policy and Licensing Division, Public Safety and Homeland Security Bureau, (202) 418-0838.

SUPPLEMENTARY INFORMATION: This is a summary of the Commission's document, DA 15-1253, released on November 5, 2015. The document is available for download at http://fjallfoss.fcc.gov/edocs_public/. The complete text of this document also available for inspection and copying during normal business hours in the FCC Reference Information Center, Portals II, 445 12th Street SW., Room CY-A257, Washington, DC 20554. To request materials in accessible formats for people with disabilities (Braille, large print, electronic files, audio format), send an email to fcc504@fcc.gov or call the Consumer and Governmental Affairs Bureau at (202) 418-0530 (voice), (202) 418-0432 (tty).

1. On October 20, 2015, FirstNet filed an ex parte letter stating that its Board recently approved a Spectrum Relocation Grant Program designed to facilitate the relocation of Band 14 incumbents, and that it expects a Federal Funding Opportunity for the grant program to be released in early 2016. FirstNet further requests “that the continuation of Commission licenses or other authorizations under Band 14 by any incumbent be conditioned upon the requirement that no operation on Band 14 be permitted without the express consent of FirstNet after July 31, 2017.” FirstNet also requests that “[i]n addition or in the alternative, . . . the Commission consider conditioning any continued operation on Band 14 on the cessation of all operations on Band 14 within 90 days written notice to the Band 14 incumbent(s) from FirstNet that deployment of the NPSBN is to begin in its State.”

2. In its 2013 Notice of Proposed Rulemaking in these dockets, the Commission sought comment “on the appropriate mechanism to transition incumbent narrowband operators out of [Band 14] and on the timeframe by which such a transition should be accomplished,” 78 FR 24138, April 24, 2013. Specifically, the Commission asked whether it could require FirstNet to manage this transition process, or to provide funds for the process, and whether the Commission should establish a hard deadline by which relocation should be accomplished. While the Commission has already received comments on these issues, it believes that seeking expedited comment on FirstNet's more specific request will help ensure a complete and comprehensive record, and is consistent with FirstNet's expectation of release of a Federal Funding Opportunity for its related grant program in early 2016. Accordingly, the Commission seeks comment on FirstNet's request in light of the 2013 Notice and the associated record.

3. Interested parties may file comments until fourteen days after the publication of this document in the Federal Register. All pleadings are to reference PS Docket 12-94, PS Docket 06-229 and WT Docket No. 06-150. This proceeding is a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b). In proceedings governed by § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

4. Comments may be filed using the Commission's Electronic Comment Filing System (ECFS). See Electronic Filing of Documents in Rulemaking Proceedings, 63 FR 24121 (1998).

• Electronic Filers: Comments may be filed electronically using the Internet by accessing the ECFS: http://fjallfoss.fcc.gov/ecfs2/.

• Paper Filers: Parties that choose to file by paper must file an original and one copy of each filing. If more than one docket or rulemaking number appears in the caption of this proceeding, filers must submit two additional copies for each additional docket or rulemaking number.

5. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington DC 20554.

6. To request materials in accessible formats for people with disabilities (Braille, large print, electronic files, audio format), send an email to fcc504@fcc.gov or call the Consumer & Governmental Affairs Bureau at 202-418-0530 (voice), 202-418-0432 (tty).

7. For further information, contact: Roberto Mussenden, Policy Division, Public Safety and Homeland Security Bureau, at (202) 418-1428 or Roberto.Mussenden@fcc.gov.

Federal Communications Commission.
David L. Furth,
Deputy Bureau Chief, Public Safety and Homeland Security Bureau.

[FR Doc. 2015-30111 Filed 11-24-15; 8:45 am]

BILLING CODE 6712-01-P